NUCLEAR REGULATORY COMMISSION

[NRC-2014-0001]

Sunshine Act Meeting Notice

DATE: Weeks of April 28, May 5, 12, 19, 26, June 2, 2014.

PLACE: Commissioners' Conference Room, 11555 Rockville Pike, Rockville, Maryland.

STATUS: Public and Closed.

Week of April 28, 2014

There are no meetings scheduled for the week of April 28, 2014.

Week of May 5, 2014—Tentative

Thursday, May 8, 2014

9:00 a.m. Briefing on Subsequent License Renewal (Public Meeting) (Contact: William (Butch) Burton, 301-415-6332)

This meeting will be Webcast live at the Web address— http://www.nrc.gov/.

3:00 p.m. Discussion of Security Issues (Closed Ex. 1)

3:30 p.m. Discussion of Management and Personnel Issues (Closed Ex. 2 and 6)

Friday, May 9, 2014

9:00 a.m. Meeting with the Advisory Committee on the Medical Uses of Isotopes (Public Meeting) (Contact: Sophie Holiday, 301-415-7865)

This meeting will be Webcast live at the Web address— http://www.nrc.gov/.

Week of May 12, 2014—Tentative

Monday, May 12, 2014

9:30 a.m. Briefing on NRC International Activities (Closed—Ex. 1 & 9)

Week of May 19, 2014—Tentative

There are no meetings scheduled for the week of May 19, 2014.

Week of May 26, 2014—Tentative

Wednesday, May 28, 2014

9:00 a.m. Joint Meeting of the Federal Energy Regulatory Commission (FERC) and the Nuclear Regulatory Commission (NRC) on Grid Reliability (Public Meeting) (Contact: Jacob Zimmerman, 301-415-1220)

This meeting will be Webcast live at the Web address— http://www.nrc.gov/.

Thursday, May 29, 2014

9:00 a.m. Briefing on Human Reliability Program Activities and Analyses (Public Meeting) (Contact: Sean Peters, 301-251-7582)

This meeting will be Webcast live at the Web address— http://www.nrc.gov/.

Week of June 2, 2014—Tentative

Tuesday, June 3, 2014

9:00 a.m. Briefing on Results of the Agency Action Review Meeting (AARM) (Public Meeting) (Contact: Michael Balazik, 301-415-2856)

This meeting will be Webcast live at the Web address— http://www.nrc.gov/.

Wednesday, June 4, 2014

9:00 a.m. Briefing on NFPA 805 Fire Protection (Public Meeting) (Contact: Barry Miller, 301-415-4117)

This meeting will be Webcast live at the Web address— http://www.nrc.gov/.

* * * * *

The schedule for Commission meetings is subject to change on short notice. To verify the status of meetings, call (recording)—301-415-1292. Contact person for more information: Rochelle Bavol, 301-415-1651.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, or by email at Kimberly.Meyer-Chambers@nrc.gov. Determinations on requests for reasonable accommodation will be made on a case-by-case basis.

* * * * *

Members of the public may request to receive this information electronically. If you would like to be added to the distribution, please contact the Office of the Secretary, Washington, DC 20555, (301-415-1969), or send an email to Darlene.Wright@nrc.gov.

Dated: April 23, 2014.
Rochelle Bavol,
Policy Coordinator, Office of the Secretary.

[FR Doc. 2014-09683 Filed 4-24-14; 11:15 am]

BILLING CODE 7590-01-P